DEPARTMENT OF COMMERCE

Submission for OMB Review; Comment Request

The Department of Commerce will submit to the Office of Management and Budget (OMB) for clearance the following proposal for collection of information under the emergency provisions of the Paperwork Reduction Act (44 U.S.C. Chapter 35).

Agency: National Telecommunications and Information Administration (NTIA).

Title: Broadband Subscription and Usage Survey (Supplement to the Census Bureau's Current Population Survey).

Agency Form Number: None.

Type of Request: Emergency submission.

Burden Hours: 458.

Average Time Per Response: 30 seconds.

Number of Respondents: 55,000.

Needs and Uses: NTIA proposes to add four questions to the Census Bureau's October 2007 Current Population Survey (CPS) in order to gather reliable data on broadband (also known as high-speed Internet) use by U.S. households. President Bush has established a national goal of universal, affordable broadband access for all Americans by 2007. To that end, the Administration is working with Congress, the Federal Communications Commission, and other parties to develop and advance economic and regulatory policies that foster broadband deployment. Current, systematic, and comprehensive data on broadband subscription and use by U.S. households is critical to allow policymakers not only to gauge progress made to date, and to identify problem areas with a specificity that permits carefully targeted and cost-effective responses.

The Census Bureau is widely regarded as a superior collector of data based on its centuries of experience and its scientific methods. Collection of NTIA's requested broadband subscription and usage data, moreover, will occur in conjunction with Census' scheduled October Current Population Survey (CPS), thereby significantly reducing the potential burdens on the Bureau and the households surveyed. Questions on broadband and Internet usage were included in six previous Census household surveys.

The need for comprehensive broadband data has become more pressing in recent months and has necessitated this request for expedited review. Following the April 2007 release of an Organization for Economic Cooperation and Development (OECD) ranking of broadband deployment worldwide, Congress held a series of hearings on the issue. The OECD has noted that the data that they are using to benchmark the United States is from 2003 as they have no other current official data from the United States. Congress has shown a particular interest in improving available statistics on U.S. broadband deployment and use. One proposed bill introduced in May directs the Census Bureau to modify its survey instruments to collect information similar to the data that NTIA proposes to collect here. Modifying the October CPS to include NTIA's requested broadband data will allow the Commerce Department and NTIA to respond to congressional concerns, congressional directives, and to work with the OECD on its broadband methodologies with more recent data.

Affected Public: Individuals or households.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent by August 31, 2007 to Jasmeet Seehra, OMB Desk Officer, e-mail Jasmeet_K._Seehra@omb.eop.gov or Fax number (202) 395-5167.

Dated: August 8, 2007.
Gwellnar Banks,
Management Analyst, Office of the Chief Information Officer.

[FR Doc. E7-15788 Filed 8-10-07; 8:45 am]

BILLING CODE 3510-60-P